SURFACE TRANSPORTATION BOARD

[Docket No. FD 36519]

Gulf & Ship Island Railroad LLC—Lease and Operation Exemption—Rail Line of Harrison County Development Commission at or Near Gulfport, Harrison County, MS

Gulf & Ship Island Railroad LLC (GSIR), a noncarrier, has filed a verified notice of exemption under 49 CFR 1150.31 to lease from the Harrison County Development Commission, acting with the Harrison County Board of Supervisors (the County), and operate approximately five miles of industrial lead tracks known as the Seaway Lead, extending between a point approximately 800 feet east of U.S. Highway 49 on the Seaway Lead and the end of the Seaway Lead at Bernard Bayou Industrial Park, at or near Gulfport, in Harrison County, Miss. (the Line).

This transaction is related to a concurrently filed verified notice of exemption in Chicago, Rock Island & Pacific Railroad LLC—Continuance in Control Exemption—Gulf & Ship Island Railroad LLC, Docket No. FD 36420, in which Chicago Rock Island & Pacific LLC seeks to continue in control of GSIR upon GSIR's becoming a Class III rail carrier.

GSIR states that it has reached an agreement with the County pursuant to which GSIR will lease the Line from the County and operate it. GSIR further states that the proposed transaction does not involve any provision or agreement that would limit GSIR's future interchange of traffic on the Line with a third-party connecting carrier.

GSIR certifies that its projected annual revenues as a result of this transaction will not result in GSIR's becoming a Class II or Class I rail carrier. GSIR further certifies that its projected annual revenue will not exceed $5 million.

The transaction may be consummated on or after June 16, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than June 9, 2021 (at least seven days before the exemption becomes effective).

All pleadings, referring to Docket No. FD 36519, should be filed with the Surface Transportation Board via e-filing on the Board's website. In addition, a copy of each pleading must be served on GSIR's representative, Thomas F. McFarland, Thomas F. McFarland, P.C., 2230 Marston Lane, Flossmoor, IL 60422-1336.

According to GSIR, this action is categorically excluded from environmental review under 49 CFR 1105.6(c) and from historic reporting requirements under 49 CFR 1105.8(b).

Board decisions and notices are available at www.stb.gov.

Decided: May 27, 2021.
By the Board, Scott M. Zimmerman, Acting Director, Office of Proceedings.
Brendetta Jones,
Clearance Clerk.

[FR Doc. 2021-11589 Filed 6-1-21; 8:45 am]

BILLING CODE 4915-01-P